DEPARTMENT OF HEALTH AND HUMAN SERVICES

National Institutes of Health

Proposed Collection; Comment Request; Technology Transfer Center External Customer Satisfaction Survey (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Technology Transfer Center External Customer Satisfaction Survey (NCI). Type of Information Collection Request: New. Need and Use of Information Collection: The purpose of this web-based questionnaire is to: Obtain information on the satisfaction of TTC's external customers with TTC customer services; collect information of preferred and expected communications channels of TTC's external customers; and assess the strategic direction of companies engaging in collaborations and alliances with the NIH. The needs of external technology transfer customers and stakeholders have not been assessed systematically. Input from these groups is essential for defining workflow process improvements for services provided by the NCI TTC to the research community. The results will be used to strengthen the operations of the NCI TTC, including the TTC Competitive Service Center. This questionnaire adheres to The Public Health Service Act, Section 413 (42 U.S.C. 285a-2) which authorizes the Director of the National Cancer Institute in carrying out the National Cancer Program to “encourage and coordinate cancer research by industrial concerns where such concerns evidence a particular capability for such research * * *” Frequency of Response: Once. Affected Public: Private Sector. Type of Respondents: Managers, executives and Directors from Foundations, Not-for-Profit and For-profit organizations that conduct research and development in biomedical applications. The annual reporting burden is estimated in Table 1. There are no Capital Costs, Operating Costs, and/or Maintenance Costs to report.

Table 1—Estimates of Annual Burden Hours
Type of respondents | Number of respondents | Frequency of response | Average time per response (minutes/hour) | Annual hour burden
Managers, Executives, and Directors | 4,000 | 1 | 20/60 (0.33) | 1,333

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact John D. Hewes, PhD, Technology Transfer Specialist, Technology Transfer Center, National Cancer Institute, 6120 Executive Blvd., MSC 7181, Suite 450, Rockville, MD 20852 or call non-toll-free number 301-435-3121 or e-mail your request, including your address to: hewesj@mail.nih.gov.

Comments Due Date: Comments regarding this information collection are best assured of having their full effect if received within 60 days of the date of this publication.

Dated: December 17, 2010.
Vivian Horovitch-Kelley,
NCI Project Clearance Liaison Office, National Institutes of Health.

[FR Doc. 2010-32334 Filed 12-22-10; 8:45 am]

BILLING CODE 4140-01-P